DEPARTMENT OF COMMERCE

Office of the Secretary

Strengthening America's Communities Advisory Committee

AGENCY: Office of the Secretary, Department of Commerce.

ACTION: Change of agenda.

SUMMARY: The Strengthening America's Communities Advisory Committee (the “Committee”) is announcing a change to the agenda for its open meeting in Clearwater, Florida.

DATES: Thursday, June 2, 2005, beginning at 8:30 a.m. (e.d.t.) (registration for public comments begins at 8 a.m. (e.d.t.)).

ADDRESSES: The meeting will take place at the Harborview Center, 300 Cleveland Street, Clearwater, Florida 33755. The meeting will be open to the public and seating will be available, but may be limited. Reservations are not accepted.

FOR FURTHER INFORMATION CONTACT: Mr. Robert E. Olson, Designated Federal Officer of the Committee, Economic Development Administration, Department of Commerce, Room 7015, 1401 Constitution Avenue, NW., Washington, DC 20230; telephone (202) 482-4495; facsimile (202) 482-2838; e-mail: saci@eda.doc.gov. Please note that any correspondence sent by regular mail may be substantially delayed or suspended in delivery, since all regular mail sent to the Department of Commerce (the “Department”) is subject to extensive security screening. For further information about the Committee or the President's Strengthening America's Communities Initiative, please visit the Department's Web site at http://www.commerce.gov/SACI/index.htm.

SUPPLEMENTARY INFORMATION: The Committee announces a change to the agenda for its open meeting in Clearwater, Florida. The Committee originally announced in the Federal Register on May 17, 2005 (70 FR 28270) that this meeting would take place on the afternoon of June 1, 2005 and during the morning of June 2, 2005. The meeting will now take place in its entirety on June 2, 2005.

The prospective agenda for the June 2, 2005 Committee meeting is as follows:

Call to Order;

Opening Remarks;

Review and Discussion of Key Committee Issues;

Public Comment Period; and

Special Presentations

The above agenda is subject to change. A more detailed agenda will be posted on the Department's Web site and a final agenda will be made available to the public the morning of the Committee meeting.

Public comments will be heard by the Committee in five-minute increments for approximately one hour. Those individuals who wish to make comments are asked to register on a first-come, first-served basis beginning at 8 a.m. (e.d.t.) at the entrance to the meeting room. Due to time limitations, there is a possibility that not all individuals wishing to make comments will be able to do so. Members of the public may also submit written statements to the Committee's Designated Federal Officer listed above at any time before or after the meeting. However, to facilitate distribution of written statements to Committee members prior to the meeting, the Committee suggests written statements be submitted to the Designated Federal Officer by facsimile or e-mail no later than May 30, 2005. Individuals interested in making oral or written comments to the Committee should visit the Department's Web site for additional rules and guidance.

Dated: May 23, 2005.
David Bearden,
Deputy Assistant Secretary of Commerce for Economic Development.

[FR Doc. 05-10568 Filed 5-25-05; 8:45 am]

BILLING CODE 3510-24-P